GENERAL SERVICES ADMINISTRATION

[Notice-MA-2020-11; Docket No. 2020-0002; Sequence No. 30]

Relocation Allowances—Waiver of Certain Federal Travel Regulation (FTR) Provisions for Renewal Agreement Travel (RAT) During the COVID-19 Pandemic

AGENCY: Office of Government-wide Policy (OGP), General Services Administration (GSA).

ACTION: Notice of GSA Bulletin FTR 21-02.

SUMMARY: This FTR bulletin informs agencies that certain FTR provisions governing RAT are temporarily waived as a result of impacts to travel from the Coronavirus Disease 2019 (COVID-19).

DATES: Applicability Date: This notice is retroactively effective for employees whose official RAT was delayed or suspended after March 13, 2019 (one year prior to the date of the national emergency issued by the President concerning COVID-19), and who have not yet taken RAT.

FOR FURTHER INFORMATION CONTACT: For clarification of content, contact Mr. Rodney (Rick) Miller, Senior Program Analyst, Office of Government-wide Policy, Office of Asset and Transportation Management, at 202-501-3822, or by email at travelpolicy@gsa.gov. Please cite Notice of FTR Bulletin 21-02.

SUPPLEMENTARY INFORMATION: Background: Federal agencies authorize relocation entitlements to those individuals listed at FTR § 302-1.1. Such individuals must sign a service agreement stating that the individual agrees to serve for a minimum time period after they have relocated, and as prescribed in FTR § 302-2.14. Before successfully completing the initial tour of duty, an agency may offer RAT for an employee to serve a new tour of duty at the same or different OCONUS location, if the employee agrees to the conditions under FTR § 302-3.212.

As a result of COVID-19, employees and their immediate family members may be, or may have been, required to delay taking RAT despite the employee's successful completion of their initial tour of duty and commitment to a second overseas tour of duty. As a result of the delay, employees might not have 12 months remaining in their second tour of duty upon their return from RAT as prescribed at FTR §§ 302-2.14(d) and 302-3.505(d)). Accordingly, agencies may waive FTR §§ 302-2.14(d) and 302-3.505(d), meaning that RAT travelers are not required to have 12 months of service remaining on their second overseas tour of duty after taking RAT, in order to be eligible for RAT. The requirements at FTR §§ 302-3.223 and 302-3.224 remain in effect. This bulletin can be viewed at https://www.gsa.gov/ftrbulletins.

Jessica Salmoiraghi,
Associate Administrator, Office of Government-wide Policy.

[FR Doc. 2020-20683 Filed 9-18-20; 8:45 am]

BILLING CODE P